DEPARTMENT OF ENERGY

Federal Energy Regulatory Commission

[Project No. 3407-088]

Big Wood Canal Company; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: P-3407-088.

c. Date filed: April 9, 2025.

d. Applicant: Big Wood Canal Company.

e. Name of Project: Magic Dam Hydroelectric Project.

f. Location: On the Big Wood River in Blaine and Camas Counties, Idaho. The project occupies Federal land managed by the U.S. Bureau of Land Management.

g. Filed Pursuant to: Federal Power Act 16 U.S.C. 791(a)-825(r).

h. Applicant's Authorized Agent: Peter Josten, 2742 Saint Charles Ave., Idaho Falls, ID 83404; Telephone: (208) 339-3542.

i. FERC Contact: Ingrid Brofman at (202) 502-8347 or email at ingrid.brofman@ferc.gov.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 9, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Magic Dam Hydroelectric Project (P-3407-088).

m. The application is not ready for environmental analysis at this time.

n. Project Description: The existing project consists of: (1) a 3,100-foot-long dam comprised of an earth-filled section, a dike, and a concrete spillway section; (2) a 3,740-acre reservoir with a storage capacity of approximately 191,500 acre-feet at an elevation of 4,798 feet; (3) a 36.5-foot-high intake tower; (4) a 620-foot-long, 132-inch-diameter outlet conduit leading to a 170-foot-long, 132-inch-diameter penstock connecting to a powerhouse; (5) a powerhouse containing three generating units with a combined capacity of 9.0 megawatts; (6) a 9.2-mile-long, 4.16 kilovolt transmission line; and (7) appurtenant facilities.

The project operates in a run-of-release mode only using flows that are seasonally released into the Big Wood River for irrigation. The estimated annual generation is 14.3 gigawatt-hours.

o. A copy of the application is available for review on the Commission's website at https://www.ferc.gov using the “eLibrary” link. Enter the docket number excluding the last three digits in the docket number field to access the document (P-3407). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. Procedural schedule and final amendments: The application will be processed according to the following preliminary schedule. Revisions to the schedule will be made as appropriate.

Milestone | Target date
Issue Deficiency Letter (if necessary) | June 2025.
Request Additional Information | June 2025.
Issue Acceptance Letter | September 2025.
Issue Scoping Document 1 for Comments | October 2025.
Issue Scoping Document 2 (if necessary) | January 2026.
Issue Notice of Ready for Environmental Analysis | January 2026.

Final amendments to the application must be filed with the Commission no later than 30 days from the issuance date of the notice of ready for environmental analysis.

Dated: April 23, 2025.
Debbie-Anne A. Reese,
Secretary.

[FR Doc. 2025-07658 Filed 5-1-25; 8:45 am]

BILLING CODE 6717-01-P